DEPARTMENT OF HEALTH AND HUMAN SERVICES

Health Resources and Services Administration

Health Center Program

AGENCY: Health Resources and Services Administration, HHS

ACTION: Notice of Noncompetitive Replacement Award to Regional Health Care Affiliates.

SUMMARY: The Health Resources and Services Administration (HRSA) will be transferring Health Center Program (section 330 of the Public Health Service Act) funds originally awarded to Trover Health System to Regional Health Care Affiliates to ensure the provision of critical primary health care services to underserved populations in Webster and McLean Counties, Kentucky.

SUPPLEMENTARY INFORMATION:

Former Grantee of Record: Trover Health System.

Original Period of Grant Support: June 1, 2009 to February 28, 2011.

Replacement awardee: Regional Health Care Affiliates.

Amount of Replacement Award: $17,000.

Period of Replacement Award: The period of support for the replacement award is September 1, 2009, to February 28, 2011.

Authority: Section 330 of the Public Health Service Act, 42 U.S.C. 245b.

CFDA Number: 93.224.

Justification For The Exception To Competition: Under the original grant application approved by HRSA, Regional Health Care Affiliates (RHCA) was identified as the provider of health care services on behalf of the Trover Health System, while Trover Health System was to serve in an administrative capacity for the grant. After the award was issued, Trover Health System and RHCA notified HRSA that RHCA's organizational structure had changed to enable it to carry out both administrative and programmatic requirements. The two parties requested that full responsibility for the grant be transferred from Trover Health System to RHCA. RHCA provided documentation that it meets Section 330 statutory and regulatory requirements as well as applicable grant management requirements.

Regional Health Care Affiliates will directly initiate primary health care services in Webster and McLean Counties to the more than 5,250 low income, underserved and uninsured individuals in the original service area, Webster and McLean Counties, KY, as had been proposed in funded grant application.

Regional Health Care Affiliates can provide primary health care services immediately, is located in the same geographical area where the Trover Health System's primary health care services have been provided, and will be able to provide continuity of care to patients of the former grantee.

This underserved target population has an immediate need for vital primary health care services and would be negatively impacted by any delay caused by a competition. As a result, in order to ensure that critical primary health care services are available to the original target population in a timely manner, this replacement award will not be competed.

FOR FURTHER INFORMATION CONTACT: Marquita Cullom-Stott via email at MCullom-Stott@hrsa.gov or 301-594-4300.

Dated: January 11, 2010.
Mary K. Wakefield,
Administrator.

[FR Doc. 2010-673 Filed 1-14-10; 8:45 am]

BILLING CODE 4165-15-P